OFFICE OF THE UNITED STATES TRADE REPRESENTATIVE

Notice of Product Exclusion Extensions and Additional Modifications: China's Acts, Policies, and Practices Related to Technology Transfer, Intellectual Property, and Innovation

AGENCY: Office of the United States Trade Representative (USTR).

ACTION: Notice of product exclusion extensions and additional modifications.

SUMMARY: In prior notices, the U.S. Trade Representative modified the action in the Section 301 investigation of China's acts, policies, and practices related to technology transfer, intellectual property, and innovation by excluding from additional duties certain medical-care products needed to address the COVID-19 outbreak. On March 25, 2020, the U.S. Trade Representative sought public comment on additional modifications in this investigation in order to address COVID-19. This notice announces the U.S. Trade Representative's determination to extend certain product exclusions and to make further modifications to remove Section 301 duties from additional medical-care products to address COVID-19.

DATES: The product exclusion extensions announced in this notice will extend the exclusions through March 31, 2021. The modifications to exclude additional products will apply as of January 1, 2021 until March 31, 2021. U.S. Customs and Border Protection will issue instructions on entry guidance and implementation.

FOR FURTHER INFORMATION CONTACT: For general questions about this notice, contact Associate General Counsel Philip Butler, Assistant General Counsels Benjamin Allen or Susie Park Hodge, or Director of Industrial Goods Justin Hoffmann at (202) 395-5725. For specific questions on customs classification or implementation of the product exclusions identified in the Annexes to this notice, contact traderemedy@cbp.dhs.gov.

SUPPLEMENTARY INFORMATION:

A. Background

At the direction of the President, the U.S. Trade Representative imposed additional duties on products of China in order to obtain the elimination of the unfair and damaging acts, policies, and practices identified in this investigation. These additional duties were imposed in four tranches. See 83 FR 28719 (June 20, 2018), 83 FR 40823 (August 16, 2018), 83 FR 47974 (September 21, 2018), as modified by 83 FR 49153 (September 28, 2018), and 84 FR 43304 (August 20, 2019), as modified by 84 FR 69447 and 85 FR 3741.

For each tranche, the U.S. Trade Representative established a process by which U.S. stakeholders could request the exclusion of particular products subject to the action. Additionally, the U.S. Trade Representative later established a process by which U.S. stakeholders could request the extension of particular exclusions.

Throughout the exclusion process, USTR assessed medical necessity in granting exclusions, consistent with its published criteria. In addition, the U.S. Trade Representative, in consultation with the Department of Health and Human Services (HHS), prioritized the review and exclusion of requests addressing medical-care products related to the U.S. response to COVID-19. See 85 FR 13970 (March 10, 2020), 85 FR 15015 (March 16, 2020), and 85 FR 15244 (March 17, 2020). These exclusions covered personal protective equipment products and other medical-care related products.

On March 25, 2020, in order to reflect developments in the efforts to respond to COVID-19, the U.S. Trade Representative requested public comments on possible further modifications to remove Section 301 duties from additional medical-care products to address the COVID-19 outbreak. 85 FR 16987 (March 25, 2020). This docket was open from March 25-June 25, 2020, and each commenter was required to identify the particular product of concern and explain how it relates to the response to COVID-19. USTR accepted comments regarding any product covered by the action in the investigation, regardless of whether the product was subject to a pending or denied exclusion request.

B. Determination To Extend Certain Exclusions and Make Additional Modifications

In light of the rising spread and ongoing efforts to combat COVID-19, the U.S. Trade Representative has determined that maintaining or re-imposing additional duties on certain products subject to the action no longer is appropriate and that the application of additional duties to these products could impact U.S. preparedness to address COVID-19.

Pursuant to sections 301(b), 301(c), and 307(a) of the Trade Act of 1974, as amended, and in accordance with the advice of the interagency Section 301 Committee, the U.S. Trade Representative has determined to extend certain product exclusions on medical-care products and to remove the duties from additional medical-care products. The medical-care products covered by this determination are set out in the annexes to this notice. In light of the evolving nature of the battle against COVID-19, the U.S. Trade Representative has determined to extend the exclusions in the annexes until March 31, 2021, and the modifications will be effective from January 1, 2021, to March 31, 2021. The U.S. Trade Representative may consider further extensions and/or additional modifications as appropriate. The U.S. Trade Representative's determination also takes into account advice from advisory committees and any public comments.

The exclusions and modifications are available for any product that meets the description in the Annexes. Further, the scope of each exclusion and modification is governed by the scope of the ten-digit Harmonized Tariff Schedule of the United States (HTSUS) subheadings and product descriptions in the annexes to this notice.

Joseph Barloon,
General Counsel, Office of the United States Trade Representative.

BILLING CODE 3290-F0-P

[FR Doc. 2020-28780 Filed 12-28-20; 8:45 am]

BILLING CODE 3290-F0-C